DEPARTMENT OF THE INTERIOR

Fish and Wildlife Service

[FWS-HQ-R-2019-N005; FXGO1664091HCC0-FF09D00000-189]

International Wildlife Conservation Council; Public Meeting

AGENCY: Fish and Wildlife Service, Interior.

ACTION: Notice of meeting.

SUMMARY: In accordance with the Federal Advisory Committee Act, the U.S. Fish and Wildlife Service announces a public meeting of the International Wildlife Conservation Council, which provides advice and recommendations to the Secretary of the Interior regarding the benefits that result from U.S. citizens traveling to foreign nations to engage in hunting.

DATES: The meeting will be March 14, 2019, from 9 a.m. to 5 p.m. (Central Standard Time) and March 15, 2019, from 1:00 p.m. to 3:00 p.m. (Central Standard Time). For deadlines and directions on registering to attend, submitting written material, and giving an oral presentation, please see Public Input under SUPPLEMENTARY INFORMATION.

ADDRESSES: The meeting will be held at the DFW Airport Marriott South, 4151 Centreport Drive, Fort Worth, TX 76155.

FOR FURTHER INFORMATION CONTACT: Cade London, Policy Advisor, by email (preferred) at iwcc@fws.gov; by telephone at (703) 358-2584; by U.S. mail at USFWS—International Affairs, 5275 Leesburg Pike, Falls Church, VA 22041; or via the Federal Relay Service at 1-800-877-8339.

SUPPLEMENTARY INFORMATION: In accordance with the Federal Advisory Committee Act (5 U.S.C. Appendix 2), we, the U.S. Fish and Wildlife Service, announce a public meeting of the International Wildlife Conservation Council (council). The council provides advice and recommendations to the Secretary of the Interior regarding the benefits that result from U.S. citizens traveling to foreign nations to engage in hunting.

Background

Formed in December 2017, the council is an advisory body whose duties include but are not limited to:

(a) Developing a plan for public engagement and education on the benefits of international hunting.

(b) Reviewing and making recommendations for changes, when needed, on all Federal programs and/or regulations, to ensure support of hunting as:

1. An enhancement to foreign wildlife conservation and survival, and

2. An effective tool to combat illegal trafficking and poaching.

(c) Recommending strategies to benefit the U.S. Fish and Wildlife Service's permit office in receiving timely country data and information so as to remove barriers that impact consulting with range states.

(d) Recommending removal of barriers to the importation into the United States of legally hunted wildlife.

(e) Ongoing review of import suspension/bans and providing recommendations that seek to resume the legal trade of those items, where appropriate.

(f) Reviewing seizure and forfeiture actions/practices, and providing recommendations for regulations that will lead to a reduction of unwarranted actions.

(g) Reviewing the Endangered Species Act's foreign listed species and interaction with the Convention on International Trade in Endangered Species of Wild Flora and Fauna, with the goal of eliminating regulatory duplications.

(h) Recommending methods for streamlining/expediting processing of import permits.

Meeting Agenda

The council will convene to hear and discuss the following:

1. Presentations made by conservation experts and officials,

2. Administrative topics, and

3. Public comment, response, and recommendations (if appropriate).

The final agenda will be posted on the internet at https://www.fws.gov/iwcc.

Attendance

If you plan to attend this meeting, you must register by close of business on the date listed in Public Input. Please submit your name, time of arrival, email address, and phone number to the Policy Advisor for International Affairs (see FOR FURTHER INFORMATION CONTACT). Space is limited and requests to attend will be accommodated in the order they are received.

Public Input

If you wish to . . . | You must contact the Policy Advisor for International Affairs (see FOR FURTHER INFORMATION CONTACT) no later than . . .
Attend the meeting | March 6, 2019.
Submit written information before the meeting for the council to consider during the meeting | March 6, 2019.
Give an oral presentation during the public comment period | March 6, 2019.
Attend the meeting and request reasonable accommodations | March 4, 2019.

Members of the public requesting reasonable accommodations, such as hearing interpreters, may contact Mr. London in writing (preferably by email) or via the Federal Relay Service at 1-800-877-8339 no later than March 4, 2019.

Submitting Written Information

Interested members of the public may submit relevant information for the council to consider during the public meeting. Written statements must be received by the date in the table above so that the information may be made available to the council for consideration prior to the meeting. Submit written statements in the following formats: One hard copy with original signature, and/or one electronic copy via email (acceptable file formats are Adobe Acrobat PDF, MS Word, MS PowerPoint, or rich text file).

Giving an Oral Presentation

Requests to address the council during the public comment period will be accommodated in the order the requests are received. Interested parties must contact the Policy Advisor for International Affairs in writing (preferably via email; see FOR FURTHER INFORMATION CONTACT). Depending on the number of people who want to comment and the time available, the amount of time for individual oral comments may be limited. Registered speakers who wish to expand upon their oral statements, or those who had wished to speak but could not be accommodated on the agenda, may submit written statements up to 30 days after the meeting.

Public Disclosure of Comments

Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Meeting Minutes

Detailed minutes of the meeting will be available for public inspection within 90 days after the meeting. They will be posted on the internet at http://www.fws.gov/iwcc.

Authority: 5 U.S.C. Appendix 2.

Ariel Alvarez,
Assistant Director, International Affairs.

[FR Doc. 2019-03372 Filed 2-26-19; 8:45 am]

BILLING CODE 4333-15-P